DEPARTMENT OF JUSTICE

Notice of Lodging of Consent Decree Pursuant to the Comprehensive Environmental Response, Compensation, and Liability Act

Pursuant to section 107 of the Comprehensive Environmental Response, Compensation, and Liability Act (“CERCLA”), 42 U.S.C. 9607, and 28 CFR 50.7, notice is hereby given that a proposed consent decree embodying a settlement in United States v. J.H. Baxter and Co., et al., No. C01-2024-SC was lodged on May 30, 2001, with the United States District Court for the Northern District of California.

In a complaint filed concurrently with the lodging of the consent decree, the United States, on behalf of the Administrator of the United States Environmental Protection Agency (“EPA”) and pursuant to section 107 of CERCLA, 42 U.S.C. 9607, seeks reimbursement of response costs incurred and a declaratory judgment on defendant's liability for response costs to be incurred for response actions taken at or in connection with the release of hazardous substances at the J.H. Baxter Superfund Site in the City of Weed, Siskiyou County, California.

The consent decree requires the settling defendants to pay the J.H. Baxter Special Account within the EPA Hazardous Substance Superfund, $1,310,300 in past response costs and to pay response costs incurred in the future. The consent decree also provides that the Superfund Site shall not be used for residential purposes and imposes other property restrictions.

The Department of Justice will receive, for a period of thirty (30) days from the date of this publication, comments relating to the proposed consent decree. Comments should be addressed to the Assistant Attorney General for the Environment and Natural Resources Division, U.S. Department of Justice, Box 7611 Ben Franklin Station, Washington, DC 20044-7611, and should refer to United States v. J.H. Baxter and Co. et al., DOJ Ref. #90-11-3-06786.

The proposed consent decree may be examined at the EPA Region 9 Superfund Records Center, 75 Hawthorne Street, Fourth Floor, San Francisco, California 94105, and at the Office of the United States Attorney for the Northern District of California, 450 Golden Gate Avenue, 11th Floor, San Francisco, California 94102. A copy of the proposed consent decree may also be obtained by mail from the Department of Justice Consent Decree Library, Box 7611, Ben Franklin Station, Washington, DC 20044-7611. In requesting a copy, please refer to the referenced case and enclose a check in the amount of $11.75 (25 cents per page reproduction costs), payable to the Consent Decree Library. A copy of the decree, exclusive of the defendants' signature pages and the attachments, may be obtained for $6.00.

Ellen Mahan,
Assistant Section Chief, Environmental Enforcement Section, Environment and Natural Resources Division.

[FR Doc. 01-15669 Filed 6-21-01; 8:45 am]

BILLING CODE 4410-15-M